DEPARTMENT OF THE INTERIOR

National Park Service

[NPS-WASO-NAGPRA-NPS0023936; PPWOCRADN0-PCU00RP14.R50000]

Notice of Intent To Repatriate Cultural Items: U.S. Army Corps of Engineers, Omaha District, Omaha, NE

AGENCY: National Park Service, Interior.

ACTION: Notice.

SUMMARY: The U.S. Army Corps of Engineers, Omaha District (Omaha District), in consultation with the appropriate Indian tribes or Native Hawaiian organizations, has determined that the cultural items listed in this notice meet the definition of unassociated funerary objects. Lineal descendants or representatives of any Indian tribe or Native Hawaiian organization not identified in this notice that wish to claim these cultural items should submit a written request to the Omaha District. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Omaha District at the address in this notice by October 23, 2017.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is hereby given in accordance with the Native American Graves Protection and Repatriation Act (NAGPRA), 25 U.S.C. 3005, of the intent to repatriate cultural items under the control of the Omaha District, Omaha, NE., that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1965 and 1968, two cultural items were removed from the Fort Manuel site (39CO5), Corson County, SD, and are presently located at the South Dakota State Archaeological Research Center (SARC), under the managerial control of the Omaha District. Between 1965 and 1966, G. Hubert Smith recovered human remains (Individual 2) and associated funerary objects. In 1968, J.J. Hoffman and R.B. Johnson, SIRBS, recovered the human remains of two other individuals (Individuals 1 and 3) and associated funerary objects consisting of wood fragments. The human remains were stored at the University of Nebraska-Lincoln until 1986, when they were moved to SARC. In 1987, the University of Tennessee-Knoxville received the human remains and conducted an inventory before returning them to SARC in 1988. The human remains were housed at SARC until May 20, 1994, when they were repatriated to the Cheyenne River Sioux with the wood fragments. The remaining two unassociated funerary objects are two bear proximal phalanges that records show were originally collected with Individual 2.

The Fort Manuel site (39CO5) is a multi-component site on a narrow terrace above the confluence of the Missouri River and Hunkpapa Creek, and was most likely occupied during the Middle Missouri Tradition (900-1500), Extended (1500-1675), Post-contact Coalescent (1675-1780), and Historic period (post-1800). Fort Manuel was established at the location as a trading post by the Missouri Fur Company in 1812 and abandoned in 1813. A journal kept by a Company clerk at Fort Manuel states that two Company men, one Native American man, and two Native American women died during the winter of 1812-1813, indicating a Historic period occupation. None of the individuals recovered from the site can be tied to the journal with any certainty. Individual 1 was found with wood fragments, possibly either coffin or wood slab fragments, which indicates either a Lakota affiliation (post-1868) or an Arikara affiliation (1500-1780). Individual 2 was placed on a scaffold then later buried, indicating an Arikara affiliation. Individual 3 was found on the surface of the site indicating a Historic period occupation and affiliated with the Lakota or Arikara. Mortuary practices of the Individual 2 as well as historic documentation indicate the human remains are most likely affiliated with the Arikara.

In August of 1979, 24 cultural items were removed from the Bergner site (39BR36), Brule County, SD, and are presently located at the South Dakota State Archaeological Research Center (SARC), under the managerial control of the Omaha District. The Bergner site is a burial site on a flat terrace above Lake Francis Case, south of Chamberlain, SD, and was discovered in August of 1979 by Mr. Lawrence Bergner. The human remains were eroding out of the bank and Mr. Bergner reported it to local authorities, who collected the human remains and 24 funerary objects. The human remains were then released to Timothy R. Nowak, Corp of Engineers field archeologist, who assessed the site but did no further excavations. At least 4 sets of human remains were recovered. The funerary objects were turned over to SARC in 1981. The human remains remained with the Corps of Engineers until some time prior to 1990, when they were reburied at site 39ST15 on the Missouri River. The excavation records show the funerary items as having been removed from the burial of a specific individual from site 39BR36. The 24 unassociated funerary objects are 16 burned clay fragments; 4 ceramic rim sherds (Iona Indented and La Roche, Wheeler); 2 bison horn cores; 1 skunk humerus; and 1 lot of wood fragments.

The Bergner site (39BR36) is a burial site that was most likely occupied between 1550 and 1675, dating to the Extended Variant of the Coalescent tradition. The archeological community associates the pottery types with the Extended Variant of the Coalescent tradition. Populations associated with the Coalescent tradition within this area and time frame are believed to be ancestral to the Arikara, therefore the unassociated funerary objects are most likely affiliated with the Arikara.

In approximately 1975, 31 cultural items were collected from the Oacoma Village site (39LM26), Lyman County, SD, and are presently located at the South Dakota State Archaeological Research Center (SARC), under the managerial control of the Omaha District. The Oacoma Village site is a large village on a low terrace above the Missouri River and was excavated around 1975 by an unknown individual. At least two sets of human remains were recovered. In 1978, the human remains were discovered during an inventory at SARC in 1978. It is unclear how the remains came to be at SARC. In the same year, the University of Tennessee-Knoxville received the human remains and conducted an inventory before returning them to South Dakota in 1986. The human remains were then reburied at site 39ST15 on the Missouri River. SARC records show the funerary items as having been removed from the burial of a specific individual from site 39LM26. The 31 unassociated funerary objects are 13 ceramic rim sherds; 10 ceramic body sherds; 1 bison mandible; 1 modified bison rib tool; 1 biface knife; 1 biface core; 1 plate chalcedony knife; 1 utilized chert flake; 1 thinning flake; and 1 spokeshave.

The Oacoma Village site (39LM26) is a large village that was most likely occupied during several components between 1500 and 1862, all variants of the Coalescent tradition. The entire Oacoma Village site encompasses a large area that was previously three sites, Oacoma Village I (39LM24), Oacoma Village II (39LM26), and Oacoma Village III (39LM27). The three sites were later combined and considered Oacoma Village (39LM26) when excavated by Marvin F. Kivett, Smithsonian Institute River Basin Survey, between 1951 and 1952, and prior to the discovery of the burials in 1975. The village was comprised of 40-50 houses. The Oacoma Village site that was excavated by Kivett included ceramic pottery types that are associated with a Post Contact Coalescent tradition (1675-1780) occupation. The rim sherds found with the burials in 1975 represent pottery types found in three different periods, Extended Coalescent tradition, Post Contact Coalescent tradition, and the Disorganized Coalescent tradition. These three periods are known for primary inhumations, which researchers believe was done for the two sets of human remains. Populations associated with the Coalescent tradition within this area and time frame are believed to be ancestral to the Arikara, therefore the unassociated funerary objects are likely affiliated with the Arikara.

The Arikara are represented today by the Three Affiliated Tribes of the Fort Berthold Reservation, North Dakota. Consultation with the Three Affiliated Tribes of the Fort Berthold Reservation, North Dakota, indicates that these kinds of funerary objects are placed with individuals at the time of death.

Determinations Made by the U.S. Army Corps of Engineers, Omaha District

Officials of the U.S. Army Corps of Engineers, Omaha District, have determined that:

• Pursuant to 25 U.S.C. 3001(3)(B), the 57 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Three Affiliated Tribes of the Fort Berthold Reservation, North Dakota.

Additional Requestors and Disposition

Lineal descendants or representatives of any Indian tribe or Native Hawaiian organization not identified in this notice that wish to claim these cultural items should submit a written request with information in support of the claim to Ms. Sandra Barnum, U.S. Army Engineer District, Omaha, ATTN: CENWO-PM-AB, 1616 Capital Avenue, Omaha, NE 68102, telephone, (402) 995-2674, email sandra.v.barnum@usace.army.mil, by October 23, 2017. After that date, if no additional claimants have come forward, transfer of control of the unassociated funerary objects to the Three Affiliated Tribes of the Fort Berthold Reservation, North Dakota, may proceed.

The U.S. Army Corps of Engineers, Omaha District, is responsible for notifying the Three Affiliated Tribes of the Fort Berthold Reservation, North Dakota, that this notice has been published.

Dated: August 2, 2017.
Melanie O'Brien,
Manager, National NAGPRA Program.

[FR Doc. 2017-20294 Filed 9-21-17; 8:45 am]

BILLING CODE 4312-52-P